DEPARTMENT OF TRANSPORTATION

Pipeline and Hazardous Materials Safety Administration

[Docket No. PHMSA 2015-0003]

Pipeline Safety: Information Collection Activities

AGENCY: Pipeline and Hazardous Materials Safety Administration (PHMSA), DOT.

ACTION: Notice and request for comments.

SUMMARY: On February 2, 2015, in accordance with the Paperwork Reduction Act of 1995, the Pipeline and Hazardous Materials Safety Administration (PHMSA) published a notice in the Federal Register (80 FR 5617) inviting comments on an information collection titled “Pipeline Safety: Periodic Underwater Inspection and Notification of Abandoned Underwater Pipelines” identified by Office of Management and Budget (OMB) control number 2137-0618. This information collection will be expiring on August 31, 2015. PHMSA will request an extension with no change for this information collection.

PHMSA received no comments in response to that notice. PHMSA is publishing this notice to provide the public with an additional 30 days to comment on the renewal of this information collection and announce that the Information Collection will be submitted to OMB for approval.

DATES: Interested persons are invited to submit comments on or before May 21, 2015 to be assured of consideration.

FOR FURTHER INFORMATION CONTACT: Angela Dow by telephone at 202-366-1246, by email at angela.dow@dot.gov, by fax at 202-366-4566, or by mail at U.S. Department of Transportation, PHMSA, 1200 New Jersey Avenue SE., PHP-30, Washington, DC 20590-0001.

ADDRESSES: You may submit comments identified by the docket number PHMSA-2015-0003 by any of the following methods:

• Fax: 1-202-395-5806.

• Mail: Office of Information and Regulatory Affairs, Records Management Center, Room 10102 NEOB, 725 17th Street NW., Washington, DC 20503, ATTN: Desk Officer for the U.S. Department of Transportation\PHMSA.

• Email: Office of Information and Regulatory Affairs, OMB, at the following email address: OIRA_Submission@omb.eop.gov.

Requests for a copy of the information collection should be directed to Cameron Satterthwaite by telephone at 202-366-1319, by fax at 202-366-4566, by email at cameron.satterthwaite@dot.gov, or by mail at U.S. Department of Transportation, PHMSA, 1200 New Jersey Avenue SE., PHP-30, Washington, DC 20590-0001.

SUPPLEMENTARY INFORMATION: Section 1320.8(d), Title 5, Code of Federal Regulations, requires PHMSA to provide interested members of the public and affected agencies an opportunity to comment on information collection and recordkeeping requests. This notice identifies an information collection request PHMSA will submit to OMB for renewal. The following information is provided for each information collection: (1) Title of the information collection; (2) OMB control number; (3) Current expiration date; (4) Type of request; (5) Abstract of the information collection activity; (6) Description of affected public; (7) Estimate of total annual reporting and recordkeeping burden; and (8) Frequency of collection. PHMSA will request a 3-year term of approval for this information collection activity. PHMSA requests comments on the following information collection:

1. Title: Pipeline Safety: Periodic Underwater Inspection and Notification of Abandoned Underwater Pipelines.

OMB Control Number: 2137-0618.

Current Expiration Date: 8/31/2015.

Type of Request: Renewal of a currently approved information collection.

Abstract: The Federal pipeline safety regulations at 49 CFR 192.612 and 195.413 require operators to conduct appropriate periodic underwater inspections in the Gulf of Mexico and its inlets. If an operator discovers that its underwater pipeline is exposed or poses a hazard to navigation, among other remedial actions such as marking and reburial in some cases, the operator must contact the National Response Center by telephone within 24 hours of discovery and report the location of the exposed pipeline.

PHMSA's regulations for reporting the abandonment of underwater pipelines can be found at §§ 192.727 and 195.59. These provisions contain certain requirements for disconnecting and purging abandoned pipelines and require operators to notify PHMSA of each abandoned offshore pipeline facility or each abandoned onshore pipeline facility that crosses over, under or through a commercially navigable waterway.

Affected Public: Operators of pipeline facilities (except master meter operators).

Annual Reporting and Recordkeeping Burden:

Estimated number of responses: 92.

Estimated annual burden hours: 1,372.

Frequency of collection: On occasion.

Comments are invited on:

(a) The need for the renewal and revision of these collections of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on April 16, 2015, under authority delegated in 49 CFR 1.97.
John A. Gale,
Director, Office of Standards and Rulemaking.

[FR Doc. 2015-09094 Filed 4-20-15; 8:45 am]

BILLING CODE 4910-60-P